DEPARTMENT OF VETERANS AFFAIRS

[OMB Control No. 2900-0495]

Agency Information Collection (Marital Status Questionnaire, 21P-0537) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before July 7, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0495” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB control No. 2900-0495.”

SUPPLEMENTARY INFORMATION: Title: Marital Status Questionnaire, VA Form 21P-0537.

OMB Control Number: 2900-0495.

Type of Review: Revision of an approved collection.

Abstract: VA Form 21P-0537 is used to verify a surviving spouse's current marital status to determine his or her continuing entitlement to Dependency and Indemnity Compensation (DIC) benefits. The form letter is automatically generated and mailed to DIC beneficiaries. Agency action depends on the information provided by the beneficiary. If the information provided supports the beneficiary's continued entitlement to benefits, no action is taken. If the information provided by the beneficiary does not support continued entitlement to benefits, VA will take action to terminate benefit payments, based on the facts found.

An agency may not conduct or sponsor, and a person is not required to respond to a collection of information unless it displays a currently valid OMB control number.

The Federal Register Notice with a 60-day comment period soliciting comments on this collection of information was published on Friday, March 25, 2016, at 81 FR 16283.

Affected Public: Individuals or households.

Estimated Annual Burden: 1,484 hours.

Estimated Average Burden per Respondent: 5 minutes.

Frequency of Response: One time.

Estimated Number of Respondents: 17,808.

By direction of the Secretary.
Kathleen M. Manwell,
Program Analyst, VA Privacy Service, Office of Privacy and Records Management, Department of Veterans Affairs.

[FR Doc. 2016-13394 Filed 6-6-16; 8:45 am]

BILLING CODE 8320-01-P